DEPARTMENT OF EDUCATION

National Committee on Foreign Medical Education and Accreditation, (National Committee); Notice of Meeting Changes

AGENCY: National Committee on Foreign Medical Education and Accreditation, Department of Education.

SUMMARY: This notice advises interested parties of changes concerning the upcoming meeting of the National Committee and amends information provided in the original meeting notice published in the July 23, 2004 Federal Register (69 FR 43974).

FOR FURTHER INFORMATION CONTACT: Ms. Bonnie LeBold, the Executive Director of the National Committee on Foreign Medical Education and Accreditation, U.S. Department of Education, room 7007, MS 7563, 1990 K St., NW., Washington, DC 20006, telephone: (202) 219-7009, fax: (202) 219-7008, e-mail: Bonnie.LeBold@ed.gov.

Individuals who use a telecommunications device for the deaf (TDD) may call the Federal Information Relay Service at 1-800-877-8339 between 8 a.m. and 8 p.m. Eastern time, Monday through Friday.

SUPPLEMENTARY INFORMATION: The changes to the agenda are as follows: (1) The first day of the National Committee meeting, originally scheduled from 9 a.m. until approximately 4:45 p.m. on Thursday, September 16, 2004, will now be scheduled from 8:30 a.m. until approximately 5 p.m. on that day.

(2) The second day of the National Committee meeting, originally scheduled from 8:30 a.m. until approximately 11:30 a.m. on Friday, September 17, 2004, will now be scheduled from 8 a.m. until approximately noon on that day.

(3) Liberia, which was originally scheduled for review during the National Committee's September 2004 meeting, will be postponed for review until the spring 2005 meeting.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Authority: 5 U.S.C. Appendix 2.

Dated: August 30, 2004.
Sally L. Stroup,
Assistant Secretary for Postsecondary Education.

[FR Doc. 04-20111 Filed 9-2-04; 8:45 am]

BILLING CODE 4000-01-P